OFFICE OF PERSONNEL MANAGEMENT

Notice of Revision of Standard Forms 39 and 39-A

AGENCY: U.S. Office of Personnel Management.

ACTION: Notice of revision.

SUMMARY: The U.S. Office of Personnel Management (OPM) has revised Standard Form (SF) 39, Request For Referral Of Eligibles, and SF 39-A, Request and Justification for Selective Factors and Quality Ranking Factors, to update legal citations; remove the outdated reference to the Federal Personnel Manual; and to include the current citation of 5 CFR part 332. The SF 39 outlines instructions to be used by hiring officials to request a list of eligible applicants to fill a position. The SF 39-A, which is attached by hiring officials to the SF 39, identifies the selective and/or quality ranking factors that will be used to determine whether an applicant is qualified for a position. The revised forms are PDF fillable and are located on OPM's Web site at http://www.opm.gov/forms/html.sf.asp for agency use. These versions supersede all previous versions. Please destroy any versions you may have in stock.

DATES: The revised form is effective August 26, 2011.

FOR FURTHER INFORMATION CONTACT: Michael Gilmore by telephone at (202) 606-2429; by fax at (202) 606-2329; by TTY at (202) 418-3134; or by e-mail at Michael.gilmore@opm.gov.

U.S. Office of Personnel Management.
John Berry,
Director.

[FR Doc. 2011-18972 Filed 7-26-11; 8:45 am]

BILLING CODE 6325-29-P